DEPARTMENT OF STATE

[Public Notice: 7659]

Advisory Committee on International Economic Policy; Notice of Meeting Cancellation

The meeting of the Advisory Committee on International Economic Policy (Public Notice 7654) scheduled for 2 to 4 p.m. on Thursday, December 8, 2011, to examine A New Focus on Investment: Attracting Inbound Foreign Direct Investment to the U.S. and highlight the U.S.-Turkey Economic Partnership Commission has been cancelled.

For additional information, contact Deputy Outreach Coordinator Tiffany Enoch, Office of Economic Policy Analysis and Public Diplomacy, Bureau of Economic, and Business Affairs, at (202) 647-2231 or EnochT@state.gov.

Dated: November 28, 2011.
Maryruth Coleman,
Office Director, Office of Economic Policy Analysis and Public Diplomacy, U.S. Department of State.

[FR Doc. 2011-31066 Filed 12-1-11; 8:45 am]

BILLING CODE 4710-07-P